DEPARTMENT OF THE INTERIOR

Fish and Wildlife Service

[FWS-R6-ES-2020-N131; FXES11140600000]

Endangered and Threatened Wildlife and Plants; Draft Recovery Plan for Pagosa Skyrocket

AGENCY: Fish and Wildlife Service, Interior.

ACTION: Notice of document availability for review and comment.

SUMMARY: We, the U.S. Fish and Wildlife Service, announce the availability of a draft recovery plan for Pagosa skyrocket, a plant listed as endangered under the Endangered Species Act. We are requesting review and comment from the public on this draft plan.

DATES: We must receive any comments on the draft recovery plan on or before August 30, 2021.

ADDRESSES:

Document availability: Copies of the draft recovery plan are available at http://www.fws.gov/endangered/species/recovery-plans.html. Alternatively, you may request a copy by U.S. mail from the Western Colorado Field Office; 445 W. Gunnison Ave. #240; Grand Junction, CO 81501; or by telephone at 970-243-2778. Persons who use a telecommunications device for the deaf may call the Federal Relay Service at 800-877-8339.

Submitting comments: If you wish to comment on the draft recovery plan, you may submit your comments in writing by email to Ann Timberman, at ann_timberman@fws.gov, or by U.S. mail to Ann Timberman, Western Slope Field Supervisor, at the above U.S. mail address.

FOR FURTHER INFORMATION CONTACT: Ann Timberman, Western Slope Field Supervisor, at the above U.S. mail address or by telephone at 970-243-2778. Persons who use a telecommunications device for the deaf may call the Federal Relay Service at 800-877-8339.

SUPPLEMENTARY INFORMATION: We, the U.S. Fish and Wildlife Service (Service), announce the availability of a draft recovery plan for Pagosa skyrocket (Ipomopsis polyantha), a plant listed as endangered under the Endangered Species Act, as amended (Act; 16 U.S.C. 1531 et seq.). The draft recovery plan includes objective, measurable criteria, and site-specific management actions as may be necessary to remove the species from the Federal List of Endangered and Threatened Plants. We are requesting review and comment from the public on this draft recovery plan.

Species Information

On August 26, 2011, we listed Pagosa skyrocket as an endangered plant (July 27, 2011; 76 FR 45054). On August 13, 2012, we designated approximately 9,641 acres (ac) (3,902 hectares (ha)) of critical habitat (77 FR 48368).

Pagosa skyrocket is a narrow endemic plant, occurring only on soils of the Mancos shale formation in Archuleta County, Colorado. It occurs at between 6,400 to 8,100 feet (ft) (1,951-2,469 meters (m)) in elevation and typically grows on infrequently disturbed lightly vegetated sites or at the edge of ponderosa pine (Pinus ponderosa) forest (Anderson 2004, p. 20). Pagosa skyrocket appears able to self-pollinate when stressed, but reproduction is more successful when outcrossed (Anderson 2004, p. 23).

Pagosa skyrocket typically spends more than a year in a vegetative state before flowering and dying (monocarpic perennial). However, if conditions are ideal, it behaves as a biennial. It is a member of the Polemoniaceae (phlox) family and is regarded as a distinct species (Anderson 2004, p. 10).

We do not know the historical distribution of Pagosa skyrocket. Currently, we know of two populations--Pagosa Springs/Mill Creek and Dyke--occupying approximately 462 ac (187 ha) and located 13 miles (mi) (21 kilometers (km)) apart. Approximately 3.5 ac (1.4 ha) of occupied habitat occurs on Bureau of Land Management (BLM) land. The remainder of occupied habitat is located on private land, land owned by the Town of Pagosa Springs, highway rights of way (ROWs), and an 88-ac (36-ha) parcel owned and managed by Colorado Parks and Wildlife (CPW). The CPW parcel contains more than 90 percent of all known Pagosa skyrocket plants and is managed with the primary goal of conserving Pagosa skyrocket. All known occupied habitat for the species occurs within designated critical habitat.

The primary threat to Pagosa skyrocket, both at the time of listing and currently, is commercial, residential, agricultural, and municipal development. We have documented losses from development of habitat and individual plants for both populations. Without additional protections, we anticipate an increase in the magnitude of this threat affecting the species' future resiliency, redundancy, and representation. Overgrazing, invasive plants, and climate change may exacerbate the threat from development.

Several conservation actions have been initiated since listing in 2011 as follows:

(1) CPW acquired 88 ac (36 ha) of occupied Pagosa skyrocket critical habitat that had been slated for development. The primary management goal of this parcel is conservation of Pagosa skyrocket.

(2) Archuleta County incorporated Pagosa skyrocket preservation into the Archuleta County Community Plan to assist in recovering the species.

(3) The Town of Pagosa Springs Master Plan identified a goal to “Strive to protect and celebrate the Pagosa skyrocket.”

(4) Volunteers and the Geothermal Greenhouse Partnership initiated greenhouse experiments to grow and transplant Pagosa skyrocket individuals.

Draft Recovery Plan

Below, we summarize components from our draft recovery plan. Please reference the draft recovery plan for full details.

The draft recovery plan describes the recovery goal as the conservation and survival of Pagosa skyrocket. For recovery, the species needs at least three (redundant) persistent (resilient) populations across the species' range, where recruitment over time equals or exceeds loss of individuals and ecological and genetic diversity are maintained (representation). The three populations would include the two currently known populations (Pagosa Springs/Mill Creek and Dyke), as well as a third population that may be newly discovered or introduced. These three resilient populations would provide sufficient representation and redundancy across the species' range.

The draft recovery plan includes recovery criteria for both downlisting and delisting. Downlisting criteria include:

(1) Maintaining stable or increasing population growth rates in three populations, with or without augmentation;

(2) Maintaining a minimum population of 4,824 individual plants in the Pagosa Springs/Mill Creek and Dyke populations, and a minimum population of 1,500 individual plants in the third newly discovered or introduced population;

(3) Each of the three populations have regulatory mechanisms or conservation plans in place that address habitat loss and degradation from development, thus helping meet population trend and abundance targets identified in the first two criteria; and

(4) Both known populations are represented in an off-site seed collection to preserve the genetic diversity of Pagosa skyrocket and provide added protection from potential stochastic events.

Delisting criteria are the same as for downlisting, with the exception that all three populations must meet the first two criteria without further augmentation. To help meet these criteria, the draft recovery plan identifies recovery actions for each criteria.

Recovery Planning Process

Restoring an endangered or threatened animal or plant to the point where it is again a secure, self-sustaining member of its ecosystem is a primary goal of the Service's endangered species program. Recovery means improving the status of a listed species to the point at which listing is no longer necessary according to the criteria specified under section 4(a)(1) of the Act. The Act requires recovery plans for listed species unless such a plan would not promote the conservation of a particular species. To help guide recovery efforts, we prepare recovery plans to promote the conservation of the species.

The purpose of a recovery plan is to provide a recommended framework for the recovery of a species so that protection of the Act is no longer necessary. Pursuant to section 4(f) of the Act, a recovery plan must, to the maximum extent possible, include:

(1) A description of site-specific management actions as may be necessary to achieve the plan's goal for the conservation and survival of the species;

(2) Objective, measurable criteria which, when met, would support a determination under section 4(a)(1) of the Act that the species should be removed from the List of Endangered and Threatened Species; and

(3) Estimates of time and costs required to carry out those measures needed to achieve the plan's goal and to achieve intermediate steps toward that goal.

We used our new recovery planning and implementation (RPI) process to develop the draft recovery plan for Pagosa skyrocket. The RPI process helps reduce the time needed to develop and implement recovery plans, increases the relevancy of the recovery plan over longer timeframes, and adds flexibility so that the recovery plan can be more easily adjusted to new information and circumstances. Under our RPI process, a recovery plan will include the three statutorily required elements for recovery plans—objective and measurable criteria, site-specific management actions, and estimates of time and cost—along with a concise introduction and our strategy for how we plan to achieve species recovery. The RPI recovery plan is supported by a separate species status assessment for the Pagosa skyrocket (SSA; Service 2020). The SSA is an in-depth, but not exhaustive, review of the species' biology and threats, an evaluation of its biological status, and an assessment of the resources and conditions needed to maintain long-term viability. The SSA provides the scientific background and threats assessment for Pagosa skyrocket, which are key to the development of the recovery plan. A third, separate working document, called the recovery implementation strategy (RIS), steps down the more general descriptions of actions in the recovery plan to detail the specifics needed to implement the recovery plan, which improves the flexibility of the recovery plan. The RIS will be adaptable, with new information on actions incorporated, as needed, without requiring a concurrent revision to the recovery plan, unless changes to the three statutory elements are required.

Peer Review

In accordance with our July 1, 1994, peer review policy (59 FR 34270; July 1, 1994); our August 22, 2016, Director's Memo on the Peer Review Process; and the Office of Management and Budget's December 16, 2004, Final Information Quality Bulletin for Peer Review (revised June 2012), we solicited independent scientific reviews of the information contained in the SSA report. Results of this structured peer review process can be found at https://www.fws.gov/mountain-prairie/science/peerReview.php. We also submitted our SSA report to our Federal and State partners for their scientific review. There is no overlap of occupied habitat or critical habitat with Tribal lands. We incorporated the results of the peer and partner review in the SSA report, as appropriate. The SSA report is the scientific foundation for the draft recovery plan.

Request for Public Comments

All comments we receive by the date specified (see DATES) will be considered prior to approval of the recovery plan. Written comments and materials regarding the recovery plan should be sent via one of the means in the ADDRESSES section.

We will consider all information we receive during the public comment period, and particularly look for comments that provide scientific rationale or factual background. The Service and other Federal agencies and partners will take these comments into consideration in the course of implementing an approved final recovery plan. We are specifically seeking comments and suggestions on the following questions:

• Understanding that the time and cost presented in the draft recovery plan will be fine-tuned when localized recovery implementation strategies are developed, do you think that the estimated time and cost to recovery are realistic? Is the estimate reflective of the time and cost of actions that may have already been implemented by Federal, State, county, or other agencies? Please provide suggestions or methods for determining a more accurate estimation.

• Do the draft recovery criteria provide clear direction to partners on what is needed to recover Pagosa skyrocket? How could they be improved for clarity?

• Are the draft recovery criteria both objective and measurable given the information available for Pagosa skyrocket now and into the future? Please provide suggestions.

• Understanding that specific, detailed, and area-specific recovery actions will be developed in the RIS, do you think that the draft recovery actions presented in the draft recovery plan generally cover the types of actions necessary to meet the recovery criteria? If not, what general actions are missing? Are any of the draft recovery actions unnecessary for achieving recovery? Have we prioritized the actions appropriately?

Public Availability of Comments

We will summarize and respond to the issues raised by the public in an appendix to the approved final recovery plan. Before including your address, phone number, email address, or other personal identifying information in your comment, you should be aware that your entire comment—including your personal identifying information—may be made publicly available at any time. You may request at the top of your comment that we withhold this information from public review; however, we cannot guarantee that we will be able to do so.

Authority

The authority for this action is section 4(f) of the Endangered Species Act, 16 U.S.C. 1533(f).

Matthew Hogan,
Deputy Regional Director, Lakewood, Colorado.

[FR Doc. 2021-13827 Filed 6-28-21; 8:45 am]

BILLING CODE 4333-15-P